DEPARTMENT OF COMMERCE

National Oceanic and Atmospheric Administration

RIN 0648-XA73

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Regional Administrator, Southwest Region, NMFS has made a preliminary determination that an application for an Exempted Fishing Permit (EFP) warrants further consideration. The application was submitted to NMFS by a California-based commercial fisherman requesting an exemption for a single vessel from the longline fishing prohibitions within the U.S. Exclusive Economic Zone (EEZ) off the west coast during the 2007 fishing year beginning mid-September 2007. The Regional Administrator has also made a preliminary determination that the activities authorized under the EFP would be consistent with the goals and objectives of the Fishery Management Plan for U.S. West Coast Fisheries for Highly Migratory Species (HMS FMP). However, further review and consultation is necessary before a final determination is made to issue the EFP. Therefore, NMFS proposes to review the EFP and requests public comment on the application.

DATES: Comments must be received by July 13, 2007.

ADDRESSES: You may submit comments on this notice, identified by RIN 0648-XA73 by any of the following methods:

• E-mail: LonglineEFP.SWR@noaa.gov. Include the RIN in the subject line of the message.

• Federal e-Rulemaking portal: http://www.regulations.gov. Following the instructions for submitting comments.

• Mail: Rodney R. McInnis, Regional Administrator, Southwest Region, NMFS, 501 West Ocean Blvd., Suite 4200, Long Beach, CA 90802-4213.

• Fax: (562) 980-4047.

FOR FURTHER INFORMATION CONTACT: Mark Helvey, Southwest Region, NMFS, (562) 980-4040.

SUPPLEMENTARY INFORMATION: An application for an EFP was submitted to the Pacific Fisheries Management Council (Council) by Peter Dupuy, a commercial fishing vessel owner, in March, 2006. The EFP would exempt a single vessel from following the gear and fishing restrictions at 50 CFR 660.712(a) implementing the HMS FMP that prohibit owners and operators of vessels registered for use of longline gear from using longline gear to fish for or target HMS within the U.S. EEZ. The applicant applied for the EFP with the intent to conduct an exploratory test fishery with a single vessel to gather information on the economic viability and environmental effects, including the potential impacts to protected species and non-target finfish interactions, of fishing for swordfish in the West Coast EEZ.

At its April 2007, meeting, the Council, with advice from its HMS Management Team and HMS Advisory Subpanel, adopted a preferred alternative for conditioning the EFP and forwarded that alternative to NMFS, recommending that the agency review the proposed EFP and, if consistent with Federal law, issue the permit. The Council recommended that the applicant be subject to a interaction cap of one short-finned pilot whale and 12 striped marlin, and not fish off the state of Washington. The Council also recommended that the fishery be managed through limits on the amount of incidental take of protected species that may be exposed to and adversely affected by this action that are to be established based upon section 7 consultations under the Endangered Species Act by NMFS for marine mammals and sea turtles and by the U. S. Fish and Wildlife Service for seabirds. If any one of the limits set by these consultations is reached by the fishery authorized by the EFP, the permit would be immediately revoked. The EFP would require 100 percent NMFS observer coverage for all fishing under the EFP. The Council's recommendations, described above, would be established as permit conditions.

If approved, the EFP would authorize a single vessel to longline fish in the EEZ off of Oregon and California. Under the proposed terms and conditions of the EFP, the vessel would target swordfish utilizing shallow-set longline gear which is set at a shallower depth (<100 m) than deep-set longline gear which is typically set in the deeper thermocline zone (~300 400 m) for tunas. The applicant would be allowed a maximum of four trips between September and December, 2007, and a maximum of 14 sets per trip. Fishing will neither be allowed within 30 nautical miles of the coastline nor within the Southern California Bight as defined by the applicant. Utilizing shallow-set longline gear configuration, the mainline cannot exceed 100 km and no more than 1,200 hooks can be deployed per set. The use of 18/0 circle hooks with a 10 ° offset and the use of mackerel or mackerel-type bait (as described at 50 CFR 665.33(f) and (g), respectively) is required. To reduce potential interactions with seabirds, gear would not be set until one hour after local sunset and must be fully deployed before local sunrise with attached time/depth recorders to estimate fishing depth. Utilization of a NMFS-certified shark de-hooking device will be required to improve the post-release survivability of incidentally captured sharks.

Aside from the exemptions described above, the vessel fishing under the EFP would be subject to all other regulations implementing the HMS FMP, including measures to protect sea turtles, marine mammals, and sea birds.

The EFP application would be effective for 2007 only. In accordance with NOAA Administrative Order 216-6, an appropriate National Environmental Policy Act document will be completed prior to the issuance of the EFP. A draft environmental assessment on the EFP was presented to the Council and public in April 2007. Further review and consultation is necessary before a final determination is made to issue the EFP. As required in Section 7(a)(2) of the Endangered Species Act (16 U.S.C. 1531 et seq.), NMFS is engaged in formal consultation to determine if the proposed action is likely to jeopardize the continued existence and recovery of any endangered or threatened species or result in the destruction or adverse modification of critical habitat.

Authority: 16 U.S.C. 1801 et seq.

Dated: June 6, 2007.
James P. Burgess,
Acting Director, Office of Sustainable Fisheries, National Marine Fisheries Service.

[FR Doc. E7-11192 Filed 6-12-07; 8:45 am]

BILLING CODE 3510-22-S